DEPARTMENT OF HEALTH AND HUMAN SERVICES

Centers for Disease Control and Prevention

[Program Announcement 03088]

Monitoring and Evaluation, and Information Systems Improvement to Implement Integrated Care and Prevention of HIV/AIDS in the Republic of Mozambique; Notice of Intent to Fund Single Eligibility Award

A. Purpose

The Centers for Disease Control and Prevention (CDC) announces the intent to fund fiscal year (FY) 2003 funds for a cooperative agreement program to develop a five year strategic and operational plan, and monitoring and evaluation activities, in order to: respond to the HIV/AIDS epidemic; establish an information system for monitoring and evaluating HIV/AIDS; and extend implementation of Prevention of Mother to Child Transmission activities in Mozambique. The Catalog of Federal Domestic Assistance number for this program is 93.941.

B. Eligible Applicant

Assistance will be provided only to the Ministry of Health of Mozambique. No other applications are solicited.

The MOH is the only appropriate and qualified organization to conduct a specific set of activities supportive of the CDC Global AIDS Program's technical assistance to Mozambique for the following reasons: (1) The MOH is uniquely positioned, in terms of legal authority, ability, and credibility among Mozambican citizens, to collect crucial data on HIV/AIDS as well as to provide care to HIV infected patients; (2) The MOH in Mozambique is mandated by the Mozambican government to implement care and treatment activities necessary for the control of epidemics, including HIV/AIDS; (3) The MOH already has an established network of health care facilities throughout Mozambique. They include treatment centers, maternal-child health clinics, and HIV/AIDS care sites. These facilities are accessible and provide health information and care for patients with HIV/AIDS, enabling the MOH to become immediately engaged in the activities listed in this announcement; and (4) The MOH has trained physicians, nurses, and social workers already working in their network of health care facilities around the country who can carry out the activities listed in this announcement.

In April of 2002, the United States Department of Health and Human Services signed a memorandum of understanding with Mozambique's Ministry of Health to collaborate on research and program implementation related to HIV/AIDS.

C. Funding

Approximately $900,000 is available in FY 2003 to fund this award. It is expected that the award will begin on or before September 15, 2003, and will be made for a 12-month budget period within a project period of up to three years. Funding estimates may change.

D. Where To Obtain Additional Information

For general comments or questions about this announcement, contact: Technical Information Management, CDC Procurement and Grants Office, 2920 Brandywine Road, Atlanta, GA 30341-4146, Telephone: 770-488-2700.

For technical questions about this program, contact: Alfredo E. Vergara, Ph.D., Director, Global AIDS Program, Mozambique, Centers for Disease Control and Prevention, Department of Health and Human Services, JAT Complex, Building 1, 420 Av. 25 de Setembro, Fourth Floor #5, Maputo, Mozambique, Telephone: (258 1)31 47 47, Fax: 31 44 60, E-mail: vergaraa@mozcdc.co.mz.

Dated: August 4, 2003.
Edward Schultz,
Acting Director, Procurement and Grants Office, Centers for Disease Control and Prevention.

[FR Doc. 03-20229 Filed 8-7-03; 8:45 am]

BILLING CODE 4163-18-P